DEPARTMENT OF ENERGY

Federal Energy Regulatory Commission

Combined Notice of Filings #1

Take notice that the Commission received the following electric corporate filings:

Docket Numbers: EC18-31-000.

Applicants: Ohio Power Company, The Dayton Power and Light Company, Duke Energy Ohio, Inc.

Description: Application under Section 203 of the Federal Power Act of Ohio Power Company, et al. for approval of a Transmission Asset Exchange Agreement.

Filed Date: 12/11/17.

Accession Number: 20171211-5196.

Comments Due: 5 p.m. ET 1/2/18.

Take notice that the Commission received the following electric rate filings:

Docket Numbers: ER11-2855-023; ER11-2856-023; ER11-2857-023; ER10-2488-015; ER10-2722-009; ER10-2787-007; ER12-2037-010.

Applicants: Avenal Park LLC, Sand Drag LLC, Sun City Project LLC, Oasis Power Partners, LLC, Eurus Combine Hills I LLC, Eurus Combine Hills II LLC, Spearville 3, LLC.

Description: Notice of Non-Material Change in Status of the Eurus MBR Companies.

Filed Date: 12/11/17.

Accession Number: 20171211-5210.

Comments Due: 5 p.m. ET 1/2/18.

Docket Numbers: ER16-2719-005.

Applicants: NextEra Energy Transmission New York, Inc.

Description: Compliance filing: NextEra Energy Transmission New York, Inc. Errata to Compliance Filing to be effective 11/30/2016.

Filed Date: 12/11/17.

Accession Number: 20171211-5175.

Comments Due: 5 p.m. ET 1/2/18.

Docket Numbers: ER17-1092-002.

Applicants: Southwest Power Pool, Inc.

Description: Compliance filing: Compliance Filing in ER17-1092-Variable Demand Curve and Scarcity Pricing to be effective 5/11/2017.

Filed Date: 12/11/17.

Accession Number: 20171211-5185.

Comments Due: 5 p.m. ET 1/2/18.

Docket Numbers: ER17-1567-001.

Applicants: PJM Interconnection, L.L.C.

Description: Compliance filing: Compliance Filing Pursuant to the November 9, 2017 Order in ER17-1567-000 to be effective 12/31/9998.

Filed Date: 12/11/17.

Accession Number: 20171211-5152.

Comments Due: 5 p.m. ET 1/2/18.

Docket Numbers: ER18-210-001.

Applicants: Emera Maine.

Description: Tariff Amendment: Revised Request for Stay of Action Docket No. ER18-210-000 to be effective 12/31/9998.

Filed Date: 12/12/17.

Accession Number: 20171212-5156.

Comments Due: 5 p.m. ET 1/2/18.

Docket Numbers: ER18-296-000.

Applicants: Phibro Americas LLC.

Description: Supplement to November 11, 2017 Phibro Americas LLC tariff filing.

Filed Date: 12/8/17.

Accession Number: 20171208-5186.

Comments Due: 5 p.m. ET 12/29/17.

Docket Numbers: ER18-301-000.

Applicants: Ormesa LLC.

Description: Amendment to November 11, 2017 Ormesa LLC tariff filing.

Filed Date: 12/1/17.

Accession Number: 20171201-5232.

Comments Due: 5 p.m. ET 12/22/17.

Docket Numbers: ER18-425-000.

Applicants: PJM Interconnection, L.L.C.

Description: § 205(d) Rate Filing: Rev to OATT Att Q RE: FTR Credit Requirements Reflecting RTEP Upgrades to be effective 2/9/2018.

Filed Date: 12/11/17.

Accession Number: 20171211-5187.

Comments Due: 5 p.m. ET 1/2/18.

Docket Numbers: ER18-426-000.

Applicants: The Dayton Power and Light Company, PJM Interconnection, L.L.C.

Description: § 205(d) Rate Filing: Dayton submits an Upgraded Facilities Agreement, Service Agreement No. 4850 to be effective 12/13/2017.

Filed Date: 12/12/17.

Accession Number: 20171212-5050.

Comments Due: 5 p.m. ET 1/2/18.

Docket Numbers: ER18-427-000.

Applicants: AEP Texas Inc.

Description: § 205(d) Rate Filing: AEPTX-Port Comfort Power IA 1st Amend & Restated to be effective 11/16/2017

Filed Date: 12/12/17.

Accession Number: 20171212-5065.

Comments Due: 5 p.m. ET 1/2/18.

Docket Numbers: ER18-428-000.

Applicants: AEP Texas Inc.

Description: § 205(d) Rate Filing: AEPTX-Guadalupe Valley Electric Cooperative IA 1st Amend & Restated to be effective 12/7/2017.

Filed Date: 12/12/17.

Accession Number: 20171212-5066.

Comments Due: 5 p.m. ET 1/2/18.

Docket Numbers: ER18-429-000.

Applicants: AEP Texas Inc.

Description: § 205(d) Rate Filing: AEPTX-Pacific Wind Development Interconnection Agreement to be effective 11/30/2017.

Filed Date: 12/12/17.

Accession Number: 20171212-5067.

Comments Due: 5 p.m. ET 1/2/18.

Docket Numbers: ER18-430-000.

Applicants: Midcontinent Independent System Operator, Inc.

Description: § 205(d) Rate Filing: 2017-12-12_Revisions to Attachment L and Module A Regarding Credit Provisions to be effective 3/1/2018.

Filed Date: 12/12/17.

Accession Number: 20171212-5111.

Comments Due: 5 p.m. ET 1/2/18.

Docket Numbers: ER18-431-000.

Applicants: Dynegy Miami Fort, LLC.

Description: § 205(d) Rate Filing: Reactive Service Rate Schedule Filings and Request for Expedited Action to be effective 1/1/2018.

Filed Date: 12/12/17.

Accession Number: 20171212-5120.

Comments Due: 5 p.m. ET 1/2/18.

Docket Numbers: ER18-432-000.

Applicants: Dynegy Zimmer, LLC.

Description: § 205(d) Rate Filing: Reactive Service Rate Schedule Filings and Request for Expedited Action to be effective 1/1/2018.

Filed Date: 12/12/17.

Accession Number: 20171212-5121.

Comments Due: 5 p.m. ET 1/2/18.

Take notice that the Commission received the following PURPA 210(m)(3) filings:

Docket Numbers: QM18-6-000.

Applicants: Basin Electric Power Cooperative, Inc.

Description: Application of Basin Electric Power Cooperative to Terminate Mandatory Purchase Obligation Under the Public Utility Regulatory Policies Act of 1978.

Filed Date: 12/12/17.

Accession Number: 20171212-5148.

Comments Due: 5 p.m. ET 1/9/18.

Docket Numbers: QM18-7-000.

Applicants: Basin Electric Power Cooperative, Inc.

Description: Application of Basin Electric Power Cooperative to Terminate Mandatory Purchase Obligation Under the Public Utility Regulatory Policies Act of 1978.

Filed Date: 12/12/17.

Accession Number: 20171212-5149.

Comments Due: 5 p.m. ET 1/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2017.
Nathaniel J. Davis, Sr.,
Deputy Secretary.

[FR Doc. 2017-27367 Filed 12-19-17; 8:45 am]

BILLING CODE 6717-01-P